SECURITIES AND EXCHANGE COMMISSION

[Release No. 34-73710; File No. SR-OCC-2014-805]

Self-Regulatory Organizations; The Options Clearing Corporation; Notice of Withdrawal of an Advance Notice Concerning Enhancements to the Risk Management Framework Applied to the Clearance of Confirmed Trades Executed in Extended and Overnight Trading Sessions

December 1, 2014.

On September 17, 2014, The Options Clearing Corporation (“OCC”) filed with the Securities and Exchange Commission (“Commission”), pursuant to Section 806(e)(1) of the Payment, Clearing, and Settlement Supervision Act of 2010 (“Clearing Supervision Act”) ¹ and Rule 19b-4(n)(1)(i),² an advance notice concerning enhancements to the risk management framework applied to the clearance of confirmed trades executed in extended and overnight trading sessions. Notice of the advance notice was published in the Federal Register on October 20, 2014.³ The Commission did not receive any comments in response to the advance notice.

¹ 12 U.S.C. 5465(e)(1).

² 17 CFR 240.19b-4(n)(1)(i).

³ See Securities Exchange Act Release No. 73343 (October 14, 2014), 79 FR 62684 (October 20, 2014) (SR-OCC-2014-805).

On October 28, 2014, OCC filed a withdrawal of its advance notice (SR-OCC-2014-805) from consideration by the Commission. The Commission is hereby publishing notice of the withdrawal.

By the Commission.
Kevin M. O'Neill,
Deputy Secretary.

[FR Doc. 2014-28544 Filed 12-4-14; 8:45 am]

BILLING CODE 8011-01-P